INTERNATIONAL TRADE COMMISSION

[Investigation No. 731-TA-1537 (Final)]

Chassis and Subassemblies From China; Supplemental Schedule for the Final Phase of an Antidumping Duty Investigation

AGENCY: United States International Trade Commission.

ACTION: Notice.

DATES: May 17, 2021.

FOR FURTHER INFORMATION CONTACT: Ahdia Bavari ((202) 205-3191), Office of Investigations, U.S. International Trade Commission, 500 E Street SW, Washington, DC 20436. Hearing-impaired persons can obtain information on this matter by contacting the Commission's TDD terminal on (202) 205-1810. Persons with mobility impairments who will need special assistance in gaining access to the Commission should contact the Office of the Secretary at (202) 205-2000. General information concerning the Commission may also be obtained by accessing its internet server (https://www.usitc.gov). The public record for these investigations may be viewed on the Commission's electronic docket (EDIS) at https://edis.usitc.gov.

SUPPLEMENTARY INFORMATION: Effective December 28, 2020, the Commission established a general schedule for the conduct of the final phase of its investigations on chassis and subassemblies (“chassis”) from China,¹ following a preliminary determination by the U.S. Department of Commerce (“Commerce”) that imports of chassis from China were being subsidized by the government of China.² Notice of the scheduling of the final phase of the Commission's investigations and of a public hearing to be held in connection therewith was given by posting copies of the notice in the Office of the Secretary, U.S. International Trade Commission, Washington, DC, and by publishing the notice in the Federal Register of January 14, 2021, 2019 (86 FR 3193). The hearing was held on March 16, 2021, and all persons who requested the opportunity were permitted to appear in person or by counsel. The Commission subsequently issued its final determination that an industry in the United States was materially injured by reason of imports of chassis that Commerce had determined were subsidized by the government of China. On May 11, 2021, Commerce issued its final affirmative determination that imports of chassis from China were being sold at LTFV in the United States.³ Accordingly, the Commission currently is issuing a supplemental schedule for its antidumping duty investigation on imports of chassis from China.

¹ 86 FR 3193, January 14, 2021.

² 86 FR 56, January 4, 2021.

³ 86 FR 26694, May 17, 2021.

This supplemental schedule is as follows: The deadline for filing supplemental party comments on Commerce's final antidumping duty determination is June 4, 2021. Supplemental party comments may address only Commerce's final antidumping duty determination regarding imports of chassis from China. These supplemental final comments may not contain new factual information and may not exceed five (5) pages in length. The supplemental staff report in the final phase of this investigation regarding subject imports from China will be placed in the nonpublic record on June 11, 2021; and a public version will be issued thereafter.

For further information concerning this investigation see the Commission's notice cited above and the Commission's Rules of Practice and Procedure, part 201, subparts A and B (19 CFR part 201), and part 207, subparts A and C (19 CFR part 207).

Please note the Secretary's Office will accept only electronic filings during this time. Filings must be made through the Commission's Electronic Document Information System (EDIS, https://edis.usitc.gov.) No in-person paper-based filings or paper copies of any electronic filings will be accepted until further notice.

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigation must be served on all other parties to the investigation (as identified by either the public or BPI service list), and a certificate of service must be timely filed. The Secretary will not accept a document for filing without a certificate of service.

Authority: This investigation is being conducted under authority of title VII of the Tariff Act of 1930; this notice is published pursuant to section 207.21 of the Commission's rules.

By order of the Commission.
Issued: May 25, 2021.
Lisa Barton,
Secretary to the Commission.

[FR Doc. 2021-11330 Filed 5-27-21; 8:45 am]

BILLING CODE 7020-02-P